DEPARTMENT OF ENERGY

Federal Energy Regulatory Commission

Notice of Commission Staff Attendance

The Federal Energy Regulatory Commission (Commission) hereby gives notice that members of the Commission's staff may attend the following meetings related to the transmission planning activities of the PJM Interconnection, L.L.C. (PJM):

PJM Planning Committee

August 11, 2016, 9:30 a.m.-12:00 p.m. (EST)

PJM Transmission Expansion Advisory Committee

August 11, 2016, 11:00 a.m.—3:00 p.m. (EST)

The above-referenced meetings will be held at: PJM Conference and Training Center, PJM Interconnection, 2750 Monroe Boulevard, Audubon, PA 19403.

The above-referenced meetings are open to stakeholders.

Further information may be found at www.pjm.com.

The discussions at the meetings described above may address matters at issue in the following proceedings:

Docket No. ER16-453, PJM Interconnection, L.L.C. and Northeast Transmission Development, LLC

Docket No. ER16-736, PJM Interconnection, L.L.C.

Docket No. ER14-972, PJM Interconnection, L.L.C.

Docket No. ER14-1485, PJM Interconnection, L.L.C.

Docket Nos. ER13-1944, et al., PJM Interconnection, L.L.C., et al.

Docket No. ER15-1344, PJM Interconnection, L.L.C.

Docket No. ER15-1387, PJM Interconnection, L.L.C. and Potomac Electric Power Company

Docket No. ER15-2562, PJM Interconnection, L.L.C.

Docket No. ER15-2563, PJM Interconnection, L.L.C.

Docket No. EL15-18, Consolidated Edison Company of New York, Inc. v. PJM Interconnection, L.L.C.

Docket No. EL15-41, Essential Power Rock Springs, LLC, et. al. v. PJM Interconnection, L.L.C.

Docket No. ER15-2114, PJM Interconnection, L.L.C. and Transource West Virginia, LLC

Docket No. EL15-79, TransSource, LLC v. PJM Interconnection, L.L.C.

Docket No. EL15-95, Delaware Public Service Commission, et. al., v. PJM Interconnection, L.L.C., et. al.

Docket No. EL15-67, Linden VFT, LLC v. PJM Interconnection, L.L.C.

Docket No. EL05-121, PJM Interconnection, L.L.C.

Docket No. ER13-198, PJM Interconnection, L.L.C.

Docket No. ER16-1335, PJM Interconnection, L.L.C.

Docket No. ER16-1232, PJM Interconnection, L.L.C.

Docket No. ER16-1499, PJM Interconnection, L.L.C.

Docket No. ER16-1807, First Energy Solutions Corp.

Docket No. EL16-96, PJM Interconnection, L.L.C.

For more information, contact the following:

Jonathan Fernandez, Office of Energy Market Regulation, Federal Energy Regulatory Commission, (202) 502-6604, Jonathan.Fernandez@ferc.gov

Alina Halay, Office of Energy Market Regulation, Federal Energy Regulatory Commission, (202) 502-6474, Alina.Halay@ferc.gov

Dated: August 3, 2016.
Kimberly D. Bose,
Secretary.

[FR Doc. 2016-18829 Filed 8-8-16; 8:45 am]

BILLING CODE 6717-01-P